DEPARTMENT OF JUSTICE

Notice of Lodging of Consent Decree Pursuant to the Comprehensive Environmental Response Compensation and Liability Act (“CERCLA”)

Consistent with Departmental policy, 28 CFR 50.7, and under Section 122(d) of CERCLA, 42 U.S.C. 9622(d), notice is hereby given that a proposed consent decree in United States and State of New York v. City of Batavia, et al., Civ. No. 00-CV-0838E(SR), was lodged on September 29, 2000 with the United States District Court for the Western District of New York. The Consent Decree concerns hazardous waste contamination at the Batavia Landfill Superfund Site (the “Site”), located in the Town of Batavia, Genesee County, New York. The Consent Decree would resolve the liability in connection with the Site for implementation of response actions, reimbursement of response costs incurred and to be incurred by the United States, and natural resource damages, as to twenty defendants against whom the United States filed a complaint on behalf of the United States Environmental Protection Agency (“EPA”) and the Secretary of the United States Department of the Interior (“DOI”). The Consent Decree would also resolve the liability to the State of New York of essentially the same group of defendants for reimbursement of response costs incurred by the State of New York in connection with the Site. In addition, the Consent Decree would resolve any liability the United States on behalf of the Veterans Administration may have for response actions, reimbursement of response costs, or natural resource damages in connection with the Site.

The Consent Decree requires three of the settling defendants—the City of Batavia, the Town of Batavia, and N L Industries, Inc. (“the Settling Work Defendants”)—to perform the remedial action at the Site selected by EPA in its 1995 Record of Decision at an estimated cost of approximately $12.78 million and to reimburse the United States approximately three-fourths of the United States' future response costs in connection with the Site. The Settling Work Defendants will also create six acres of wetlands and pay $51,000 in full reimbursement of the DOI's past costs of assessing natural resource damages and estimated future costs of monitoring wetlands work at the Site. The United States will fund approximately one-fourth of this settlement, by relinquishing its claim for approximately $4 million in past response costs incurred by EPA in connection with the Site, and by pre-authorizing the Settling Work Defendants to apply for up to approximately $808,000 in reimbursement from the Hazardous Substance Superfund (established by 26 U.S.C. 9507), and for approximately one-fourth of any excess of costs incurred by the Settling Work Defendants above the projected cost total for the remedial action. The other settling defendants, and the United States on behalf of the Veterans Administration, will resolve their liability by making payments in accordance with a private settlement agreement among the defendants into an escrow account established by the Settling Work Defendants. The United States' payment to the escrow account on behalf of the Veterans Administration is $565,226.

The Department of Justice will receive, for a period of thirty (30) days from the date of this publication, comments relating to the proposed consent decree. Comments should be addressed to the Assistant Attorney General, Environment and Natural Resources Division, P.O. Box 7611, U.S. Department of Justice, Washington, DC 20044-7611, and should refer to United States and State of New York v. City of Batavia, et al., DOJ Ref. #90-11-2-861.

The proposed consent decree may be examined at the office of the United States Attorney for the Western District of New York, 138 Delaware Avenue, Buffalo, New York 14202 (contact Assistant United States Attorney Mary K. Roach); and the Region II Office of the Environmental Protection Agency, 290 Broadway, New York, New York, 10007-1866 (contact Assistant Regional Counsel Beverly Kolenberg). A copy of the proposed consent decree may be obtained by mail from the Consent Decree Library, P.O. Box 7611, Washington, DC 20044-7611. In requesting a copy please refer to the referenced case and enclose a check in the amount of $25.25 (25 cents per page reproduction costs) for the Consent Decree without Appendices, or in the amount of $68.25 for the Consent Decree with all Appendices, payable to the Consent Decree Library.

Bruce S. Gelber,
Deputy Chief, Environmental Enforcement Section, Environment and Natural Resources Division.

[FR Doc. 00-25902 Filed 10-6-00; 8:45 am]

BILLING CODE 4410-15-M